DEPARTMENT OF THE INTERIOR

National Park Service

[N6512; NPS-WASO-NAGPRA-NPS0041058; PPWOCRADN0-PCU00RP14.R50000]

Notice of Inventory Completion: University of California, Santa Barbara, Repository for Archaeological and Ethnographic Collections, Santa Barbara, CA

AGENCY: National Park Service, Interior.

ACTION: Notice.

SUMMARY: In accordance with the Native American Graves Protection and Repatriation Act (NAGPRA), the University of California, Santa Barbara (UCSB), Repository for Archaeological and Ethnographic Collections has completed an inventory of human remains and associated funerary objects and has determined that there is a cultural affiliation between the human remains and associated funerary objects and Indian Tribes or Native Hawaiian organizations in this notice.

DATES: Repatriation of the human remains and associated funerary objects in this notice may occur on or after October 14, 2025.

ADDRESSES: Send written requests for repatriation of the human remains and associated funerary objects in this notice to Hugh Radde, University of California, Santa Barbara, Santa Barbara, CA 93106, email NAGPRA@ucsb.edu.

SUPPLEMENTARY INFORMATION: This notice is published as part of the National Park Service's administrative responsibilities under NAGPRA. The determinations in this notice are the sole responsibility of the UCSB Repository for Archaeological and Ethnographic Collections, and additional information on the determinations in this notice, including the results of consultation, can be found in its inventory or related records. The National Park Service is not responsible for the determinations in this notice.

Abstract of Information Available

Human remains representing, at least, four individuals have been identified (Accession 308). The 10 associated funerary objects are three projectile points, one chert flake, one unmodified rock, one pismo clam fragment, one lot of shellfish remains, two oversized groundstone objects, and one lot processed materials. Accession 308 was removed from CA-SLO-801 in San Luis Obispo County, CA in 1984. The excavations were led by Westec as part of the mitigation for development at Sunset Palisades near Shell Beach, CA. The collection of cultural materials and ancestors were received at UCSB in May 1985. It is unknown whether the remains were treated with preservatives or other potentially hazardous substances.

Human remains representing, at least, one individual has been identified (Accession 576.DIA). The six associated funerary objects are stone objects. The individuals are believed to have been removed from Diablo Canyon (CA-SLO-2) in San Luis Obispo, CA. The ancestral remains were taken home by R.O. Browne, who served as crew foreman for excavations led by Roberta Greenwood in 1968. Following Mr. Browne's passing, the ancestor was donated to UC Santa Barbara in 1995 on his behalf. It is unknown whether the remains were treated with preservatives or other potentially hazardous substances.

Human remains representing, at least, five individuals have been identified (Accession 576.DS). The 238 associated funerary objects include stone objects, animal bones, shellfish remains, and one lot processed material. The individuals are were removed from one of several sites along the coastline near Diablo Canyon (CA-SLO-2, CA-SLO-51/H, and/or CA-SLO-585) in San Luis Obispo, CA. The ancestral remains were taken home by R.O. Browne, who served as crew foreman for excavations led by Roberta Greenwood in 1968. Following Mr. Browne's passing, the ancestors were donated to UC Santa Barbara in 1995 on his behalf. It is unknown whether the remains were treated with preservatives or other potentially hazardous substances.

Cultural Affiliation

Based on the information available and the results of consultation, cultural affiliation is reasonably identified by the geographical location or acquisition history of the human remains and associated funerary objects described in this notice.

Determinations

The UCSB Repository for Archaeological and Ethnographic Collections has determined that:

• The human remains described in this notice represent the physical remains of 10 individuals of Native American ancestry.

• The 254 objects described in this notice are reasonably believed to have been placed intentionally with or near individual human remains at the time of death or later as part of the death rite or ceremony.

• There is a connection between the human remains and associated funerary objects described in this notice and the Santa Ynez Band of Chumash Mission Indians of the Santa Ynez Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 14, 2025. If competing requests for repatriation are received, the UCSB Repository for Archaeological and Ethnographic Collections must determine the most appropriate requestor prior to repatriation. Requests for joint repatriation of the human remains and associated funerary objects are considered a single request and not competing requests. The UCSB Repository for Archaeological and Ethnographic Collections is responsible for sending a copy of this notice to the Indian Tribes and Native Hawaiian organizations identified in this notice and any other consulting parties.

Authority: Native American Graves Protection and Repatriation Act, 25 U.S.C. 3003, and the implementing regulations, 43 CFR 10.10.

Dated: August 29, 2025.
Melanie O'Brien,
Manager, National NAGPRA Program.

[FR Doc. 2025-17623 Filed 9-11-25; 8:45 am]

BILLING CODE 4312-52-P